DEPARTMENT OF COMMERCE

National Oceanic and Atmospheric Administration

[RTID 0648-XE096]

Council Coordination Committee Meeting

AGENCY: National Marine Fisheries Service (NMFS), National Oceanic and Atmospheric Administration (NOAA), Commerce.

ACTION: Notice of a public meeting; information regarding the agenda.

SUMMARY: The National Marine Fisheries Service, Office of Sustainable Fisheries, will host an interim session of the Council Coordination Committee (CCC), consisting of the Regional Fishery Management Council chairs, vice chairs, and executive directors, on July 24, 2024. The intent of this virtual meeting is to discuss draft updates to NMFS Procedure 04-114-02, the Ecosystem-Based Fisheries Management (EBFM) Road Map.

DATES: The meeting will begin at 3:30 p.m. Eastern Daylight Time (EDT) on Wednesday July 24, adjourning at 5:00 p.m. EDT.

ADDRESSES: The meeting will be held online via WebEx at https://noaanmfs-meets.webex.com/noaanmfs-meets/j.php?MTID=md488252c97e93eb5cba28de943a2070c [Meeting number: 2825 457 3083; Password: TsZGuMR!].

FOR FURTHER INFORMATION CONTACT: Morgan Corey by email at Morgan.Corey@noaa.gov or at (301) 427-8500.

SUPPLEMENTARY INFORMATION: In 2016, NMFS adopted its EBFM Policy and EBFM Road Map. Both the Policy and the Road Map are part of NMFS's Policy Directive System, which guides work within NMFS, but does not have the force and effect of law and do not bind the public. The EBFM Policy was updated in the Policy Directive System in February 2024, following a scheduled 2023 review. The more detailed EBFM Road Map was also scheduled for and subject to a review in 2023, and NMFS made the draft Road Map available for public review in May 2024.

During this interim CCC session, NMFS will brief the CCC on updates to the EBFM Policy and Road Map, and will discuss progress made to date on implementing these internal directives since 2016.

The 2007 reauthorization of the Magnuson-Stevens Fishery Conservation and Management Act established the CCC. The CCC consists of the chairs, vice chairs, and executive directors of each of the eight Regional Fishery Management Councils.

Proposed Agenda

Wednesday, July 24, 2024—3:30 p.m.-5 p.m. EDT

1. Welcome (Mike Ruccio)

2. EBFM Policy and Road Map Overview & Discussion (Yvonne deReynier and Jason Link)

3. Public Comment

4. Close of Meeting (Mike Ruccio)

Special Accommodations

If you have particular access needs please contact Morgan Corey at Morgan.Corey@noaa.gov at least 7 business days prior to the meeting for accommodation.

Authority: 16 U.S.C. 1801 et seq.

Dated: July 3, 2024.
Kelly Denit,
Director, Office of Sustainable Fisheries, National Marine Fisheries Service.

[FR Doc. 2024-15020 Filed 7-8-24; 8:45 am]

BILLING CODE 3510-22-P